DEPARTMENT OF TRANSPORTATION

Coast Guard

[CGD09-01-027]

Great Lakes Icebreaking: Recording Decision on Final Environmental Impact Statement

AGENCY: Coast Guard, DOT.

ACTION: Notice of availability.

SUMMARY: The Coast Guard announces the availability of its Record of Decision for the Final Environmental Impact Statement (“FEIS”) issued on 26 July 2000. In accordance with the National Environmental Policy Act and the Council of Environmental Quality Regulations, the Coast Guard has approved the preferred alternative for Ninth Coast Guard District icebreaking activity.

ADDRESSES: The Record of Decision is available for inspection or copying at the Ninth Coast Guard District Legal Office, 1240 East Ninth Street, Room 2075, Cleveland, Ohio 44199-2060 between 8 a.m. and 4 p.m., Monday through Friday, except Federal holidays, Telephone (216) 902-6010. Any interested party may request a copy of the EIS by writing or calling the National Technical Information Service, 5285 Port Royal Road, Springfield, Virginia, 22161, (800) 553-6847 and asking for document number PB 2000-105-877.

FOR FURTHER INFORMATION CONTACT: For questions regarding the Record of Decision, contact LCDR Clayton Diamond, Ninth Coast Guard District Legal Office, 1240 East Ninth Street, Room 2075, Cleveland, Ohio 44199-2060, Telephone (216) 902-6010. For questions regarding the FEIS, contact Mr. Frank Blaha, U.S. Coast Guard Civil Engineering Unit, 1240 East Ninth Street, Room 2179, Cleveland, Ohio 44199-2060, Telephone (216) 902-6258.

SUPPLEMENTARY INFORMATION: The Record of Decision is based upon the FEIS for USCG icebreaking operations on the Great Lakes. The USCG will implement the preferred alternative by continued icebreaking operations in order to engage in the agency's primary duties: facilitation of shipping, flood control, search and rescue, and research and development, through icebreaking in the Great Lakes. All practicable measures to avoid or minimize environmental impacts from winter commercial shipping operations, including icebreaking, have been identified and incorporated in the preferred alternative.

Dated: May 3, 2001.
James D. Hull,
Rear Admiral, U.S. Coast Guard, Commander, Ninth Coast Guard District.

[FR Doc. 01-12980 Filed 5-22-01; 8:45 am]

BILLING CODE 4910-15-U